SMALL BUSINESS ADMINISTRATION

Senior Executive Service and Senior Level: Performance Review Board Members

AGENCY: U. S. Small Business Administration.

ACTION: Notice of Members for the FY 2019 Performance Review Board.

Title 5 U.S.C. 4314(c)(4) requires each agency to publish notification of the appointment of individuals who may serve as members of that agency's Performance Review Board (PRB). The following individuals have been designated to serve on the FY 2019 Performance Review Board for the U.S. Small Business Administration.

Members

1. Barbara Carson (Chair), Deputy Associate Administrator, Office of Government Contracting and Business Development

2. Allen Gutierrez, Associate Administrator, Office of Entrepreneurial Development

3. Delorice Ford, Assistant Administrator, Office of Hearings and Appeals

4. Larry Stubblefield, Associate Administrator, Office of Veterans Business Development

5. Nina Levine, Associate General Counsel, Financial Law and Lender Oversight, Office of General Counsel

6. Michael Hershey, Associate Administrator, Office of Congressional and Legislative Affairs

7. Victor Parker, District Director, Los Angeles District Office, Office of Field Operations

8. David Glaccum, Associate Administrator, Office of International Trade

Christopher Pilkerton,
Acting Administrator.

[FR Doc. 2019-23100 Filed 10-22-19; 8:45 am]

BILLING CODE 8026-03-P